DEPARTMENT OF HOMELAND SECURITY

Coast Guard

[CGD13-06-028]

Letter of Recommendation, Proposed LNG Project, Jordan Cove Energy Project, LP, Coos County, OR

AGENCY: Coast Guard, DHS.

ACTION: Request for comments; notice of public meeting, correction.

SUMMARY: The Coast Guard is issuing this correction to an earlier notice that published on June 27, 2006, in order to correct and update the time of the Public Meeting and the Request for Written Comments. Our earlier notice listed an incorrect start time for the public meeting and due date for written comments.

DATES: All written comments and related material must reach the Coast Guard on or before July 24, 2006. In addition, a public meeting will be held Tuesday, July 11, 2006 at 6 p.m. The comment period associated with the public meeting will remain open for thirteen days following the meeting. The meeting location is: Southwestern Oregon Community College, Hales Performing Arts Center, 1988 Newmark Ave., Coos Bay, OR 97420; 541-888-2525.

ADDRESSES: You may submit written comments to Commanding Officer, U.S. Coast Guard Sector Portland, 6767 N. Basin Ave., Portland, OR 97217. Sector Portland maintains a file for this notice. Comments and material received will become part of this file and will be available for inspection and copying at Sector Portland between 8 a.m. and 3 p.m. Monday through Friday, except Federal holidays.

FOR FURTHER INFORMATION CONTACT: If you have questions on this notice, contact Lieutenant Shadrack Scheirman at Sector Portland by one of the methods listed below:

(1) Phone at (503) 240-9307.

(2) E-mail at Shadrack.L.Scheirman@uscg.mil.

(3) Fax to (503) 240-2586.

SUPPLEMENTARY INFORMATION:

Request for Written Comments

We encourage you to submit written comments and related material pertaining specifically to marine safety and security aspects associated with the proposed Jordan Cove LNG facility. If you do so, please include your name and address, identify the docket number for this notice ([CGD13-06-028]), and give the reason for each comment. You may submit your comments and related material by mail, or hand delivery, as described in ADDRESSES, or you may send them by fax or e-mail using the contact information under FOR FURTHER INFORMATION CONTACT. To avoid confusion and duplication, please submit your comments and material by only one means.

If you submit comments by mail or hand delivery, submit them in an unbound format, no larger than 8½ by 11 inches, suitable for copying and electronic filing. If you submit them by mail and would like to know that they reached U.S. Coast Guard Sector Portland, please enclose a stamped, self-addressed postcard or envelope.

Public Meeting

Due to the scope and complexity of this project, we have decided to hold a joint public meeting with FERC to allow the public the opportunity to comment on the proposed LNG facility. FERC will issue a separate notice for the public meeting listed under DATES above, regarding the public's opportunity to comment on the environmental aspects of the facility siting.

Organizations and members of the public may provide oral statements regarding the suitability of Coos Bay for LNG vessel traffic. In the interest of time and use of the public meeting facility, oral statements should be limited to five minutes. Written comments may be submitted at the meeting or to the Docket up to July 24, 2006.

SUPPLEMENTARY INFORMATION: The Coast Guard is issuing this correction to an earlier notice that published on June 27, 2006, (71 FR 36538) in order to correct and update the time of the Public Meeting and the due date for the Request for Written Comments. This correction corrects the meeting time and due date for written comments listed in the sections SUMMARY, Request for Written Comments, and Public Meeting.

Dated: June 30, 2006.
Daniel T. Pippenger,
Commander, U.S. Coast Guard, Captain of the Port.

[FR Doc. E6-10978 Filed 7-12-06; 8:45 am]

BILLING CODE 4910-15-P